DEPARTMENT OF HEALTH AND HUMAN SERVICES

Centers for Disease Control and Prevention

[60Day-01-23]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

National Public Health Performance Standards Program State Public Health System Assessment—New—Public Health Practice Program Office (PHPPO), Centers for Disease Control and Prevention (CDC).

Since 1998, the CDC National Public Health Performance Standards Program has convened workgroups with the National Association of County and City Health Officials (NACCHO), the Association of State and Territorial Health Officials (ASTHO), the National Association of Local Boards of Health (NALBOH), the American Public Health Association (APHA), and the Public Health Foundation (PHF) to develop performance standards for public health systems based on the essential services of public health. In the fall of 2000, CDC conducted field tests with the state public health survey instruments in Hawaii, Minnesota, and Mississippi.

CDC is now proposing to implement a formal, voluntary data collection, based on the lessons learned during field testing, to assess the capacity of state public health systems to deliver the Essential Services of Public Health. Electronic data submission will be the method of choice when state and territorial health departments complete the public health assessment.

An estimated 33% of the 59 state and territorial health departments are expected to participate in the National Performance Standards Program during the first year. In year 2, an additional 25% are expected to complete the assessment. There are no cost to respondents.

National Performance Standards Program Burden Table
Respondents | Responses per respondent | Average burden response (in hrs.) | Total burden hours
Year 1
20 | 1 | 15 | 300
Year 2
15 | 1 | 15 | 225

Dated: March 2, 2001.
Nancy Cheal,
Acting Associate Director for Policy, Planning, and Evaluation, Centers for Disease Control and Prevention.

[FR Doc. 01-5730 Filed 3-7-01; 8:45 am]

BILLING CODE 4163-18-P